ENVIRONMENTAL PROTECTION AGENCY

[FRL-8254-8]

Clean Water Act Section 303(d): Availability of 10 Total Maximum Daily Loads (TMDLs)

AGENCY: Environmental Protection Agency (EPA).

ACTION: Notice of availability.

SUMMARY: This notice announces the availability of the administrative record file for comment on 10 TMDLs and the calculations for these TMDLs prepared by EPA Region 6 for waters listed in the state of Arkansas under section 303(d) of the Clean Water Act (CWA). These TMDLs were completed in response to the lawsuit styled Sierra Club, et al. v. Browner, et al., No. LR-C-99-114.

DATES: Comments must be submitted in writing to EPA on or before January 12, 2007.

ADDRESSES: Comments on the 10 TMDLs should be sent to Ms. Diane Smith, Environmental Protection Specialist, Water Quality Protection Division, U.S. Environmental Protection Agency Region 6, 1445 Ross Ave., Dallas, TX 75202-2733, facsimile (214) 665-7373, or e-mail: smith.diane@epa.gov. For further information, contact Diane Smith at (214) 665-2145. Documents from the administrative record file for these TMDLs are available for public inspection at this address as well. Documents from the administrative record file may be viewed at http://www.epa.gov/region6/6wq/npdes/tmdl/index.htm, or obtained by calling (214) 665-2145 or writing Ms. Smith at the above address. Please contact Ms. Smith to schedule an inspection.

FOR FURTHER INFORMATION CONTACT: Diane Smith at (214) 665-2145.

SUPPLEMENTARY INFORMATION: In 1999, five Arkansas environmental groups, the Sierra Club, Federation of Fly Fishers, Crooked Creek Coalition, Arkansas Fly Fishers, and Save our Streams (plaintiffs), filed a lawsuit in Federal Court against the EPA, styled Sierra Club, et al. v. Browner, et al., No. LR-C-99-114. Among other claims, plaintiffs alleged that EPA failed to establish Arkansas TMDLs in a timely manner. EPA proposes these TMDLs pursuant to a consent decree entered in this lawsuit.

EPA Seeks Comments on 10 TMDLs

By this notice EPA is seeking comment on the following 10 TMDLs for waters located within the state of Arkansas:

Segment-Reach | Waterbody Name | Pollutant
08020203-625 | Bear Creek Lake | Nutrient.
08020203 | Horseshoe Lake | Nutrient.
08020204 | Mallard Lake | Nutrient.
08020302 | Frierson Lake | Turbidity.
08020303 | Old Town Lake | Nutrient.
08040203-904 | Big Creek | CBOD and Ammonia.
08050002 | Grand Lake | Nutrient.
11110204 | Spring Lake | Mercury.
11140201 | First Old River Lake | Nutrient.

EPA requests that the public provide to EPA any water quality related data and information that may be relevant to the calculations for these 10 TMDLs. EPA will review all data and information submitted during the public comment period and revise the TMDLs and determinations where appropriate. EPA will then forward the TMDLs to the Arkansas Department of Environmental Quality (ADEQ). The ADEQ will incorporate the TMDLs into its current water quality management plan.

Dated: December 6, 2006.
James R. Brown,
P.G., Acting Division Director, Water Quality Protection Division, Region 6.

[FR Doc. E6-21200 Filed 12-12-06; 8:45 am]

BILLING CODE 6560-50-P